ENVIRONMENTAL PROTECTION AGENCY

[EPA-HQ-OPP-2009-0889; FRL-8803-2]

Policy Paper on Revised Risk Assessment Methods for Workers, Children of Workers in Agricultural Fields, and Pesticides with No Food Uses; Notice of Availability

AGENCY: Environmental Protection Agency (EPA).

ACTION: Notice of Availability.

SUMMARY: EPA is making available for comment a policy paper entitled “Revised Risk Assessment Methods for Workers, Children of Workers in Agricultural Fields, and Pesticides with No Food Uses,” that describes how the Agency will assess pesticide risks not governed by the Federal Food, Drug and Cosmetic Act. To provide comprehensive and consistent evaluation of potential risks of food use pesticides, non-food use pesticides, and related occupational exposures, EPA intends to apply risk assessment techniques developed in implementing the Food Quality Protection Act of 1996 to any pesticide risk assessment, whether it falls under FQPA or not, as long as applying the risk assessment technique is consistent with good scientific practice and is not otherwise prohibited by law. Specifically, this will include using an additional safety/uncertainty factor to protect children, considering aggregate exposures to pesticides from multiple sources, and considering cumulative effects which may occur from exposure to multiple pesticides with a common mechanism of toxicity. Moreover, risks will be explicitly reported for individuals who had not been explicitly considered, specifically workers age 12-17 and children taken into agricultural fields. Taking this step at this time has important environmental justice ramifications. EPA anticipates that implementing this policy will increase protections, especially for agricultural workers and children of workers in agricultural fields.

DATES: Comments must be received on or before February 8, 2010.

ADDRESSES: Submit your comments, identified by docket identification (ID) number EPA-HQ-OPP-2009-0889, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-0889. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Deborah Smegal, Health Effects Division, Office of Pesticide Programs, Environmental Protection Agency, 1200 Pennsylvania Ave., NW., Washington, DC 20460-0001; telephone number: (703) 308-0175; fax number: (703) 305-5147; e-mail address: smegal.deborah@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the chemical review manager listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

EPA is releasing and inviting comment on a policy paper that describes how the Agency plans to use revised methods in conducting risk assessments for pesticide uses and exposures not governed by the Federal Food, Drug and Cosmetic Act (FFDCA). Implementing this policy will increase protections, especially for workers and children of workers in agricultural fields.

EPA licenses or registers pesticides for sale and distribution under the Federal Insecticide, Fungicide, and Rodenticide Act (FIFRA). The Agency establishes tolerances, limits for pesticide residues in or on food, under section 408 of FFDCA. In contrast to the risk/benefit standard for registration under FIFRA, FFDCA applies a risk-only standard for tolerances and explicitly sets certain approaches for assessing risks. These risk assessment approaches include incorporating an additional safety factor to protect children, aggregating all non-occupational (food, water and residential) exposures to a pesticide, and considering the cumulative effects of pesticides with a common mechanism of action. The risk-only standard and the mandated risk assessment approaches were added to FFDCA by the Food Quality Protection Act of 1996 (FQPA). FIFRA does not require EPA to use these risk assessment approaches in assessing worker risks or non-food use pesticides. Also, historically, EPA has not considered children in assessing worker risks.

To provide more comprehensive and consistent evaluation of potential risks of food use pesticides, non-food use pesticides, and related occupational exposures, EPA intends to apply risk assessment techniques developed in implementing FQPA to any pesticide risk assessment, whether it falls under FQPA or not, so long as application of the risk assessment technique is consistent with good scientific practice and is not otherwise prohibited by law. Specifically, this will include using an additional safety/uncertainty factor to protect children, considering aggregate exposures to pesticides from multiple sources, and considering cumulative effects which may occur from exposure to multiple pesticides with a common mechanism of toxicity. Moreover, risks will be explicitly reported for individuals who had not been explicitly considered, specifically workers age 12 to 17 and children taken into agricultural fields.

Taking this step at this time has important environmental justice ramifications. EPA's commitment to environmental justice compels the Agency to act expeditiously, where consistent with statutory authority, to incorporate the risk assessment techniques developed in the implementation of FQPA in assessing pesticide risks under FIFRA.

List of Subjects

Environmental protection, Pesticides and pests.

Dated: December 1, 2009.
Debra Edwards,
Director, Office of Pesticide Programs.

[FR Doc. E9-29209 Filed 12-08-09; 8:45 am]

BILLING CODE 6560-50-S